NATIONAL AERONAUTICS AND SPACE ADMINISTRATION

[Notice 01-046]

NASA Advisory Council (NAC), Earth Systems Science and Applications Advisory Committee (ESSAAC), Earth Science Data and Information Systems and Services Advisory Subcommittee (ESDISSAS); Meeting

AGENCY: National Aeronautics and Space Administration.

ACTION: Notice of meeting.

SUMMARY: In accordance with the Federal Advisory Committee Act, Pub. L. 92-463, as amended, the National Aeronautics and Space Administration announces a meeting of the NASA Advisory Council, Earth System Science and Applications Advisory Committee, Earth Science Data and Information Systems and Services Advisory Subcommittee.

DATES: Thursday, May 10, 2001, 8:30 a.m. to 5:30 p.m.; and Friday, May 11, 2001, 8:30 a.m. to 4:00 p.m.

ADDRESSES: NASA Headquarters, 300 E Street SW., Room MIC 5A, Washington, DC 20546.

FOR FURTHER INFORMATION CONTACT: Ms. Martha Maiden, Code YS, National Aeronautics and Space Administration, Washington, DC 20546, 202/358-1078.

SUPPLEMENTARY INFORMATION: The meeting will be open to the public up to the seating capacity of the room. The agenda for the meeting is as follows:

—Opening Remarks

—NASA Welcome

—Earth Observing System Data and Information System (EOSDIS): Processes for Management for EOSDIS Evolution

—New Data and Information Systems and Services (NewDISS) Concept Document Recommendations

—New DISS Formulation Progress

—Data Centers of the Distribution Active Archive Center (DAAC) Alliance

—Federation Report

—Points for Comment, Recommendations from Day One

—High End Computing for Earth Science Modeling

—ESDISSAS Recommendations, Wrap-up

It is imperative that the meeting be held on these dates to accommodate the scheduling priorities of the key participants. Visitors will be requested to sign a visitor's register.

Dated: April 12, 2001.
Beth M. McCormick,
Advisory Committee Management Officer, National Aeronautics and Space Administration.

[FR Doc. 01-9572 Filed 4-17-01; 8:45 am]

BILLING CODE 7510-01-P